DEPARTMENT OF HEALTH AND HUMAN SERVICES

Centers for Disease Control and Prevention

Advisory Committee on Immunization Practices: Meeting

In accordance with section 10(a)(2) of the Federal Advisory Committee Act (Pub. L. 92-463), the Centers for Disease Control and Prevention (CDC) announces the following Committee meeting:

Name: Advisory Committee on Immunization Practices (ACIP).

Times and Dates: 8:30 a.m.-6 p.m., October 16, 2002. 8 a.m.-2:45 p.m., October 17, 2002.

Place: Atlanta Marriott Century Center, 2000 Century Boulevard, NE., Atlanta, Georgia 30345-3377.

Status: Open to the public, limited only by the space available.

Purpose: The Committee is charged with advising the Director, CDC, on the appropriate uses of immunizing agents. In addition, under 42 U.S.C. 1396s, the Committee is mandated to establish and periodically review and, as appropriate, revise the list of vaccines for administration to vaccine-eligible children through the Vaccines for Children (VFC) program, along with schedules regarding the appropriate periodicity, dosage, and contraindications applicable to the vaccines.

Matters to be Discussed: The agenda will include an update on the smallpox vaccination policy; supplemental recommendations for smallpox; 2003 recommended childhood immunization schedule and catch-up child immunization schedule; recommendations for storage of vaccines; 2003 influenza vaccine recommendations; update on influenza vaccine supply; update from the National Immunization Program; update from the Department of Defense; update from the Food and Drug Administration; update from the National Institutes of Health; update from the National Vaccine Program Office; update from Vaccine Injury Compensation Program; update from the National Center for Infectious Diseases; public participation in formulating vaccine policy; vaccinating cochlear implant recipients for meningitis and pneumococcal disease; update on the effect of pneumococcal conjugate vaccine on disease; update on the Institute of Medicine Immunization Safety Review Committee meetings; and Glaxo SmithKline's combination DTaP-HepB-IPV vaccine. Agenda items are subject to change as priorities dictate.

For More Information Contact: Gloria A. Kovach, Program Analyst, Epidemiology and Surveillance Division, National Immunization Program, CDC, 1600 Clifton Road, NE., m/s E61, Atlanta, Georgia 30333. Telephone 404/639-8096.

The Director, Management Analysis and Services Office, has been delegated the authority to sign Federal Register notices pertaining to announcements of meetings and other committee management activities for both the Centers for Disease Control and Prevention and the Agency for Toxic Substances and Disease Registry.

Dated: September 11, 2002.
John Burckhardt,
Acting Director, Management Analysis and Services Office, , Centers for Disease Control and Prevention.

[FR Doc. 02-23556 Filed 9-16-02; 8:45 am]

BILLING CODE 4163-18-P